SMALL BUSINESS ADMINISTRATION

[Disaster Declaration # 10804]

Oklahoma Disaster Number OK-00010

AGENCY: U.S. Small Business Administration.

ACTION: Amendment 2.

SUMMARY: This is an amendment of the Presidential declaration of a major disaster for Public Assistance Only for the State of Oklahoma (FEMA-1678-DR), dated 2/1/2007.

Incident: Severe Winter Storms.

Incident Period: 1/12/2007 through 1/26/2007.

DATES: Effective Date: 3/5/2007.

Physical Loan Application Deadline Date: 4/2/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Oklahoma, dated 2/1/2007, is hereby amended to include the following areas as adversely affected by the disaster.

Primary Counties: Mcclain, Cleveland.

All other information in the original declaration remains unchanged.

(Catalog of Federal Domestic Assistance Number 59008.)

Herbert L. Mitchell,
Associate Administrator for Disaster Assistance.

[FR Doc. E7-4546 Filed 3-12-07; 8:45 am]

BILLING CODE 8025-01-P